DEPARTMENT OF THE INTERIOR

Bureau of Ocean Energy Management

[Docket No. BOEM-2013-0087; MMAA104000]

Commercial Leasing for Wind Power Development on the Outer Continental Shelf (OCS) Offshore New York—Call for Information and Nominations (Call)

AGENCY: Bureau of Ocean Energy Management (BOEM), Interior.

ACTION: Call for Information and Nominations for Commercial Leases for Wind Power Development on the Outer Continental Shelf Offshore New York.

SUMMARY: BOEM invites submissions of nominations from parties interested in obtaining one or more commercial leases that would allow a lessee to propose the construction of a wind energy project(s) on the OCS offshore New York. Although the publication of this notice is not itself a leasing announcement, the area described herein may be subject to future leasing. Parties wishing to submit a nomination in response to this Call should submit detailed and specific information as described in the section entitled, “Required Nomination Information.” Parties that have previously submitted a nomination in response to the Request for Interest (RFI) (78 FR 760, published on January 4, 2013) do not need to resubmit their proposals unless they wish to modify or update them.

BOEM also requests comments from interested and affected parties regarding site conditions, resources, and multiple uses of the identified area that would be relevant to BOEM's review of the nominations and/or to any subsequent decision concerning whether to offer all or part of the area for commercial wind leasing. Information that BOEM is requesting is described in the section entitled, “Requested Information from Interested or Affected Parties.”

This Call is published pursuant to subsection 8(p)(3) of the OCS Lands Act (43 U.S.C. 1337(p)(3)), which was added by section 388 of the Energy Policy Act of 2005 (EPAct), as well as the implementing regulations at 30 CFR Part 585.

The Call Area described in this notice is located on the OCS off the coast of Long Island, New York, beginning approximately 11 nautical miles (nmi) south of Long Beach, New York. From its western edge, the area extends approximately 26 nmi southeast at its longest portion. The project area consists of 5 full OCS blocks and 148 sub-blocks. The entire area is approximately 127 square miles, 81,130 acres, or 32,832 hectares. Table 1 describes the OCS lease blocks and sub-blocks included within the area of interest. A detailed description of the area is presented later in this notice.

DATES: BOEM will only consider nominations describing interest in this Call Area that are postmarked by July 14, 2014. BOEM requests that comments and any other information are submitted by this date.

Submission Procedures: If you are submitting a nomination for a commercial lease in response to this Call, please submit your nomination by mail to the following address: Bureau of Ocean Energy Management, Office of Renewable Energy Programs, 381 Elden Street, HM 1328, Herndon, Virginia 20170-4817. In addition to a paper copy of the nomination, include an electronic copy of the nomination on a compact disc (CD) or flash drive. Nominations must be postmarked by July 14, 2014. BOEM will list the parties that submitted nominations and the location of the proposed lease areas (OCS blocks they nominated) on the BOEM Web site after the 45-day comment period closes.

Comments and other submissions of information may be submitted by either of the following two methods:

1. Federal eRulemaking Portal: http://www.regulations.gov. In the entry titled “Enter Keyword or ID,” enter BOEM-2013-0087, and then click “Search.” Follow the instructions to submit public comments and view supporting and related materials available for this notice.

2. By U.S. Postal Service or other delivery service, send your comments and information to the following address: Bureau of Ocean Energy Management, Office of Renewable Energy Programs, 381 Elden Street, HM 1328, Herndon, Virginia 20170-4817.

All responses will be reported on http://www.regulations.gov. If you wish to protect the confidentiality of your nomination or comment, clearly mark the relevant sections and request that BOEM treat them as confidential. Please label privileged or confidential information “Contains Confidential Information,” and consider submitting such information as a separate attachment. Treatment of confidential information is addressed in the section of this Call entitled, “Protection of Privileged or Confidential Information.” Information that is not labeled as privileged or confidential will be regarded by BOEM as suitable for public release.

FOR FURTHER INFORMATION CONTACT: Dr. Andrew Krueger, Project Coordinator, BOEM, Office of Renewable Energy Programs, 381 Elden Street, HM 1328, Herndon, Virginia 20170-4817, (703) 787-1320, or andrew.krueger@boem.gov.

SUPPLEMENTARY INFORMATION:

Purpose of the Call for Information and Nominations

The OCS Lands Act requires BOEM to award leases competitively, unless BOEM makes a determination that there is no competitive interest (43 U.S.C. 1337(p)(3)). The purpose of this notice is to inform the public that BOEM has determined that competitive interest exists in the area identified, solicit any additional expressions of interest in obtaining a lease in the area identified, and request information from interested and affected parties on issues relevant to BOEM's review of nominations for potential leases in the area identified.

Background

Energy Policy Act of 2005 (EPAct)

The EPAct amended the OCS Lands Act by adding subsection 8(p)(1)(c), which authorizes the Secretary of the Interior (Secretary) to grant leases, easements, or rights-of-way (ROWs) on the OCS for activities that are not otherwise authorized by law and that produce or support the production, transportation, or transmission of energy from sources other than oil or gas. Subsection 8(p) requires the Secretary to issue regulations to carry out the new energy development authority on the OCS. The Secretary delegated the authority to issue leases, easements, and ROWs, and to promulgate regulations to the Director of BOEM. On April 29, 2009, BOEM promulgated the Renewable Energy and Alternate Uses rule, 30 CFR Part 585, which can be found at: http://www.boem.gov/Renewable-Energy-Program/Regulatory-Information/Index.aspx#Rules_Development.

Executive Order 13547: Stewardship of the Ocean, Our Coasts, and the Great Lakes

On July 19, 2010, the President signed an Executive Order establishing a national ocean policy and the National Ocean Council (75 FR 43023). The Order establishes a comprehensive, integrated national policy for the stewardship of the ocean, our coasts and the Great Lakes. Where BOEM actions affect the ocean, the Order requires BOEM to take such action as necessary to implement this policy, to adhere to the stewardship principles and national priority objectives adopted by the Order, and follow guidance from the National Ocean Council.

BOEM appreciates the importance of coordinating its planning endeavors with other OCS users and regulators. It intends to follow principles of coastal and marine spatial planning, and coordinate with the regional planning bodies established by the National Ocean Council, to inform its leasing processes. BOEM anticipates that continued coordination with its Intergovernmental Renewable Energy Task Forces will help inform comprehensive coastal and marine spatial planning efforts.

Mid-Atlantic Regional Planning Body

The National Ocean Policy also calls for the creation of Regional Planning Bodies (RPBs) to coordinate and implement regional ocean planning with state, Federal, tribal, and Fishery Management Council representatives. The intergovernmental Mid-Atlantic RPB (MidA RPB) was formally established in April 2013 to leverage existing state and regional ocean planning efforts and to engage stakeholders and technical experts at every key step.

The MidA RPB is composed of representatives from New York, New Jersey, Pennsylvania, Delaware, Maryland, and Virginia. Representatives from New York are actively engaged in the regional planning body. See the MidA RPB Web site for additional information: http://www.boem.gov/Mid-Atlantic-Regional-Planning-Body/.

Actions Taken by the State of New York in Support of Renewable Energy Development

The State of New York has taken important steps to study offshore wind energy development as well as other forms of renewable energy production. New York State coordinates renewable energy policies to strategically harness the many resources that the State can provide to solar, wind (offshore and land-based), bioenergy, geothermal, hydrokinetic, storage, and other power supply options. New York has developed strategies that take into account the opportunities provided by the diverse renewable resources available in different regions of the State. These strategies are documented in the 2014 Draft New York State Energy Plan, available at: http://energyplan.ny.gov/Plans/2014.aspx.

BOEM New York Renewable Energy Task Force

In December 2009, the Governor of New York requested that BOEM form a task force to facilitate intergovernmental communications regarding OCS renewable energy activities and development offshore New York. The BOEM New York Renewable Energy Task Force first met in November 2010 to facilitate coordination among relevant Federal agencies and affected state, local, and tribal governments throughout the leasing process. Two subsequent meetings were held in April 2012 and September 2013. Task Force meeting materials are available on the BOEM Web site at: http://www.boem.gov/Renewable-Energy-Program/State-Activities/New-York.aspx.

New York Call Area

The Call Area is the same as the area described in the Request for Interest (RFI) (78 FR 760), which was published in the Federal Register on January 4, 2013, and is discussed in further detail in the “Publication of RFI and Responses Received” section below. BOEM may adjust this potential leasing area in response to comment submissions and information received from this notice and the associated Notice of Intent to Prepare an Environmental Assessment (NOI-EA), described below in the section entitled, “Environmental Review.”

Publication of RFI and Responses Received

On September 8, 2011, BOEM received an unsolicited request from the New York Power Authority (NYPA) for a commercial wind lease on the OCS offshore New York. NYPA submitted its request on behalf of the “Long Island-New York City Offshore Wind Collaborative,” a public-private entity consisting of NYPA, the Long Island Power Authority, and Consolidated Edison Company of New York, Inc. The Collaborative's goal is to develop the proposed project to supply Long Island and New York City with renewable energy, consistent with New York State's and the City of New York's renewable energy initiatives. NYPA's proposed project, the “Long Island-New York City Offshore Wind Project,” is designed to generate at least 350 megawatts (MW) of electricity from offshore wind resources, with the ability to expand generation capacity to as much as 700 MW. The project would be located approximately 11 nmi south of Long Beach, New York, in water depths ranging from 60 to 120 feet.

In subsequent discussions, the U.S. Coast Guard (USCG) recommended a minimum one nautical mile separation distance from designated navigation lanes. NYPA incorporated this guidance in their lease request by an amendment filed on June 20, 2012, requesting additional lease area to compensate for the area lost by the increased setback distance. NYPA's unsolicited lease request and the amendment can be viewed at: http://www.boem.gov/Renewable-Energy-Program/State-Activities/New-York.aspx.

In response to the unsolicited proposal, as amended, BOEM issued an RFI on January 4, 2013, to determine whether any parties in addition to NYPA are interested in developing commercial wind facilities in the same area. BOEM received two indications of interest in response to that notice, which can be viewed at: http://www.boem.gov/Renewable-Energy-Program/State-Activities/New-York.aspx. Two companies (Fishermen's Energy, LLC and Energy Management, Inc.) responded to the RFI with indications that they were interested in developing the same area. BOEM reviewed the information submitted by those companies and determined that they demonstrated the technical and financial capability to hold an OCS lease for commercial wind energy development offshore New York. Therefore, BOEM has since determined that there is competitive interest in obtaining commercial wind leases in the Call Area, and is proceeding with the competitive renewable energy leasing process.

In addition to indications of interest, BOEM received 33 public comment submissions from individuals, trade associations, environmental groups, local and state governments, and federal agencies in response to the RFI. The majority of comment submissions indicated strong support for the development of an offshore wind facility for a variety of reasons. The City of New York stated support for the development of an offshore wind facility in order to diversify the electricity supply, reduce electric constraints, and help to achieve a more reliable electric system. Numerous environmental groups and their members noted their support for an offshore wind facility as a means to reduce the need for additional fossil fuel-based power plants, reduce the impacts of climate change, and improve air quality. Additionally, multiple labor and environmental groups as well as state agencies endorsed the development of an offshore wind facility near New York as a means to increase economic growth in the region through sales and wages over the course of a wind facility's construction and operation.

Some comment submissions highlighted concerns for BOEM to consider throughout the leasing process. Multiple commenters, including the National Oceanic and Atmospheric Administration (NOAA), the National Park Service (NPS), and the National Wildlife Federation, urged BOEM to investigate mitigation strategies to ensure that North Atlantic right whales are protected during the development of offshore wind resources in the area. Commenters highlighted that other endangered or threatened species may be found near the Call Area as well, including (in no particular order of conservation priority/concern): The fin whale, humpback whale, piping plover, roseate tern, Atlantic sturgeon, seabeach amaranth, loggerhead sea turtle, green sea turtle, leatherback sea turtle, and Kemp's Ridley sea turtle. Commenters noted that several species protected under the Marine Mammal Protection Act may be found in the Call Area as well.

Other commenters highlighted possible negative impacts to valuable sea scallop fishing activities in the Call Area and requested that the majority of the Call Area be excluded from further consideration. Although BOEM is retaining this fishing area in the Call Area at this time, BOEM will consider this comment and other relevant fishery information as we move forward with area identification.

Other agencies highlighted the need for ongoing consultation throughout the leasing process. For example, the NPS highlighted its concern that a commercial wind facility in the Call Area would impact Fire Island National Seashore and Gateway National Recreation Area as well as a number of National Historic Landmarks along the New Jersey coastline. The NPS has requested that it be consulted on these matters and given the opportunity to comment on future environmental documents, site assessment plans, and construction and operations plans regarding protected areas as well as viewsheds, threatened and endangered species, sediment transport, and other resources. BOEM will continue to work with NPS as we move forward.

Additionally, NOAA noted that the Call Area is designated as essential fish habitat for several federally managed species that may be impacted by the development of an offshore wind facility. The use of the area as a fishery is supported by fishing data previously supplied to BOEM by NOAA. NOAA highlighted the need to investigate these possible impacts, including cumulative effects and whether fishing activity may continue within a developed wind facility. BOEM will consult with NOAA on these issues through statutory consultation requirements and informal collaboration.

Last, the USCG Sector New York identified a portion of the Call Area that is currently used as a weapons training area (WTA) for maintaining law enforcement proficiency. USCG requested in its comment submission that this WTA be given consideration as an existing use, as BOEM proceeds with the competitive leasing process offshore New York. It is important to note that the WTA is not an officially designated weapons training range. USCG has clarified to BOEM that if BOEM ultimately issues a wind energy lease in the Call Area, USCG has an alternate WTA within the Sector New York area that could be utilized instead.

For additional detail, all comment submissions are available at: http://www.boem.gov/Renewable-Energy-Program/State-Activities/New-York.aspx.

BOEM appreciates the submission of these comments and will give proper consideration to them throughout its planning and decision-making process.

Competitive Leasing Process

The following are the next steps in the competitive leasing process after this Call:

(1) Area Identification: BOEM will identify areas for environmental analysis and consideration for leasing in consultation with appropriate Federal agencies, states, local governments, affected Indian Tribes, and other interested parties. BOEM will also consider comments and nominations made in response to this Call with respect to areas that should receive special consideration and analysis, including but not limited to areas with geological conditions, archeological sites, multiple uses, and other socioeconomic, biological, and environmental information. The environmental analysis and consideration will detail the potential effect of leasing on the human, marine, and coastal environments, and BOEM will develop measures to mitigate adverse impacts, including lease stipulations and conditions. BOEM will comply with the requirements of the National Environmental Policy Act (NEPA), the Coastal Zone Management Act (CZMA), and any other applicable Federal statutes for the purpose of issuing a lease in the Call Area.

(2) Proposed Sale Notice: After the completion of the necessary environmental reviews, BOEM will publish a Proposed Sale Notice (PSN) in the Federal Register and send the PSN to the Governor of any affected state, any affected tribes, and the executive of any local government that might be affected. The PSN will describe the areas that BOEM has decided to offer for leasing and the proposed terms and conditions of a lease sale, including the proposed auction format, lease form and lease provisions. Additionally, the PSN will describe the criteria and process for evaluating bids. The PSN would be issued after preparation of various analyses of proposed lease sale economic terms and conditions. The comment period following issuance of a PSN is 60 days.

(3) Final Sale Notice: If BOEM decides to proceed with lease issuance after considering comment submissions on the PSN, it will publish the Final Sale Notice (FSN) in the Federal Register at least 30 days before the date of the sale. BOEM will publish the criteria for winning bid determinations in the FSN.

(4) Bid Submission and Evaluation: Following publication of the FSN in the Federal Register, qualified bidders may submit their bids to BOEM in accordance with procedures specified in the FSN. The bids, including the bid deposits, if applicable, would be reviewed for technical and legal adequacy. BOEM will evaluate each bid to determine if the bidder has complied with all applicable regulations and the terms of the FSN. BOEM reserves the right to reject any or all bids as well as the right to withdraw an offer to lease an area from the sale.

(5) Issuance of a Lease: Following the selection of a winning bid or bids by BOEM, the submitter(s) is/are notified of the decision and provided a set of official lease documents for execution. The successful bidder(s) will be required to execute the lease, pay the remainder of the bonus bid, if applicable, and file the required financial assurance within 10 days of receiving the lease documents. Upon receipt of the required payments, financial assurance, and properly executed lease forms, BOEM will issue a lease to the successful bidder(s).

Pursuant to 30 CFR 585.212, BOEM may decide to end the competitive leasing process prior to the publication of a FSN if it believes that competitors have withdrawn and competitive interest no longer exists. A termination of the competitive process would require BOEM to publish an additional notice in the Federal Register to confirm that competitive interest no longer exists in the area. BOEM would use the information received in response to this additional notice to determine whether it would continue with the competitive lease sale process or initiate the noncompetitive lease negotiation process.

Environmental Review

BOEM is publishing concurrently with this Call a Notice of Intent to prepare an Environmental Assessment (NOI-EA) to consider the environmental impacts and socioeconomic effects of issuing one or more renewable energy leases in the Call Area. The EA will investigate reasonably foreseeable site characterization activities, such as geophysical, geotechnical, archaeological, and biological surveys. The EA will also consider the reasonably foreseeable environmental impacts and socioeconomic effects associated with the approval of site assessment activities (including the installation and operation of meteorological towers and buoys) on any lease that may be issued. The New York NOI-EA can be found at: http://www.boem.gov/Renewable-Energy-Program/State-Activities/New-York.aspx.

In the event that a lease is issued, and the lessee subsequently submits a Site Assessment Plan (SAP), pursuant to 30 CFR 585.605-618, BOEM would then determine whether the EA adequately considers the environmental consequences of the activities proposed in the lessee's SAP. If BOEM determines that the analysis in the EA adequately considers these consequences, then no further NEPA analysis would be required before BOEM makes a decision on the SAP. If, on the other hand, BOEM determines that the analysis in the EA is inadequate for that purpose, BOEM would conduct additional NEPA analysis before it makes a decision on the SAP. In either event, BOEM would then make a decision to approve, approve with modifications, or disapprove the SAP.

If a lessee is prepared to propose a wind energy generation facility on its lease, it would submit a Construction and Operations Plan (COP). BOEM then would prepare a separate site- and project-specific NEPA analysis of the proposed project. This analysis would likely take the form of an Environmental Impact Statement and would provide the public and Federal officials with comprehensive information regarding the reasonably foreseeable environmental impacts of the proposed project. At this stage, BOEM would evaluate the potential environmental and socioeconomic consequences of the proposed project. This analysis would inform BOEM's decision to approve, approve with modification, or disapprove a lessee's COP pursuant to 30 CFR 585.628. This NEPA process also would provide additional opportunities for public involvement pursuant to NEPA and the White House Council on Environmental Quality's regulations at 40 CFR Parts 1500-1508.

Description of the Call Area

The Call Area is the same as the area described in the RFI, which was published in the Federal Register on January 4, 2013. The Call Area offshore New York contains 5 whole OCS blocks and 148 sub-blocks. The area begins approximately 11 nmi south of Long Beach, New York. From its western edge, the area extends approximately 26 nmi southeast at its longest portion. The entire area is approximately 127 square miles, 81,130 acres, or 32,832 hectares. Table 1 below describes the OCS lease blocks and sub-blocks included within the Call Area.

Table 1—List of OCS Blocks and Sub-blocks Included in the Call Area
Protraction name | Protraction No. | Block No. | Sub block
New York | NK 18-12 | 6655 | F,G,H,K,L,P.
New York | NK 18-12 | 6656 | I,J,K,L,M,N,O,P.
New York | NK 18-12 | 6657 | M,N,O,P.
New York | NK 18-12 | 6706 | B,C,D,H.
New York | NK 18-12 | 6707 | A,B,C,D,E,F,G,H,J,K,L,P.
New York | NK 18-12 | 6708 | Entire block.
New York | NK 18-12 | 6709 | E,F,G,H,I,J,K,L,M,N,O,P.
New York | NK 18-12 | 6710 | I,J,K,L,M,N,O,P.
New York | NK 18-12 | 6711 | M,N,O,P.
New York | NK 18-12 | 6712 | M.
New York | NK 18-12 | 6758 | A,B,C,D,G,H.
New York | NK 18-12 | 6759 | A,B,C,D,E,F,G,H,I,J,K,L,O,P.
New York | NK 18-12 | 6760 | Entire block.
New York | NK 18-12 | 6761 | Entire block.
New York | NK 18-12 | 6762 | Entire block.
New York | NK 18-12 | 6763 | A,C,D,E,F,G,H,I,J,K,L,M,N,O,P.
New York | NK 18-12 | 6764 | A,E,F,G,H,I,J,K,M,N.
New York | NK 18-12 | 6810 | A,B,C,D,G,H,L.
New York | NK 18-12 | 6811 | A,B,C,D,E,F,G,H,I,J,K,L,O,P.
New York | NK 18-12 | 6812 | Entire block.
New York | NK 18-12 | 6813 | A,B,C,D,E,F,G,H,I,J,M,N.
New York | NK 18-12 | 6814 | A.
New York | NK 18-12 | 6862 | A,B,C,D,E,F,G,H,K.
New York | NK 18-12 | 6863 | A.

Map of the Call Area

A map of the Call Area can be found at: http://www.boem.gov/Renewable-Energy-Program/State-Activities/New-York.aspx.

A large-scale map of the Call Area showing boundaries with numbered blocks is available from BOEM at the following address: Bureau of Ocean Energy Management, Office of Renewable Energy Programs, 381 Elden Street, HM 1328, Herndon, Virginia 20170-4817. Phone: (703) 787-1320, Fax: (703) 787-1708.

List of OCS Blocks and Sub-Blocks in the Call Area Potentially Subject to Limitations

The Call Area includes areas that BOEM wishes to highlight as areas of special interest or concern based on responses to the RFI. These areas are described below.

Traffic Separation Schemes

The Call Area is located between two Traffic Separation Schemes (TSS) for vessels transiting into and out of the Port of New York and New Jersey. The USCG has generally recommended that lease areas be located with a minimum setback of 1 nmi from any adjacent TSS. BOEM has adopted this recommendation and NYPA filed an amendment to their nomination adding area to compensate for the wider setback distance. The Call Area includes the additional area requested in NYPA's amendment. For purposes of this Call, BOEM will not consider leasing those sub-blocks between an adjacent TSS and the 1 nmi setback. However, BOEM is including sub-blocks that are transected by the setback line. BOEM reserves the right to prohibit the installation of any structures on the portions of those sub-blocks located within the recommended setback.

Department of Defense (DOD) Activities

The Call Area includes OCS blocks where site-specific conditions and stipulations may need to be developed and applied to any leases issued and/or plans approved to help ensure that projects are compatible with DOD activities. Such stipulations may include, but are not limited to:

1. A hold-and-save-harmless agreement where the lessee assumes all risks of damage or injury to persons or property if such injury or damage to such person or property occurs by reason of the activities of the U.S. Government;

2. A requirement that, at times requested by DOD, the lessee control its own electromagnetic emissions and those of its agents, employees, invitees, independent contractors, or subcontractors when operating in specified DOD Operating Areas (OPAREAs) or warning areas;

3. An agreement with the appropriate DOD commander when operating vessels or aircraft in a designated OPAREA or warning area requiring that these vessel and aircraft movements be coordinated with the appropriate DOD commander;

4. A requirement that at times requested by DOD, the lessee temporarily suspends operations and/or evacuates the lease in the interest of safety and/or national security.

Port Ambrose Liquefied Natural Gas Project

Potentially interested parties should be aware that Liberty Natural Gas, LLC (Liberty) has submitted an application to the USCG and the Maritime Administration for the construction and operation of an offshore liquefied natural gas (LNG) facility, called the Port Ambrose LNG Project. The proposed facility would be located within the Call Area, (OCS blocks 6708, 6709, and 6758), roughly 19 miles off Jones Beach, New York, and approximately 31 miles from the entrance to New York Harbor. The USCG is in the process of reviewing Liberty's application and determining guidance for setbacks and other measures that will ultimately determine the footprint of the Port Ambrose LNG Project.

BOEM provided scoping comments to the USCG on July 19, 2013, in relation to the USCG's development of an Environmental Impact Statement for the proposed Port Ambrose LNG project. BOEM's primary concern was to ascertain the compatibility of a commercial wind facility with the LNG project. Although Liberty noted their belief that the LNG facility would be compatible with a large wind energy facility in their application, BOEM highlighted concerns about navigational challenges resulting from large LNG vessels operating within close proximity to offshore wind turbines. BOEM recommended that the USCG require a more thorough analysis of the proposed LNG facility's compatibility with large scale wind development as well as an investigation of strategies to minimize potential conflicts.

Additional information on the Liberty Natural Gas Deepwater Port License Application is available at: https://federalregister.gov/a/2013-15008.

Protected Species

As mentioned in the “Publication of RFI and Responses Received” section above, BOEM received multiple comment submissions in response to the RFI highlighting concerns that offshore wind development in the Call Area may affect threatened or endangered species that occur within the Call Area.

The U.S. Fish and Wildlife Service (FWS) recommends that project area data be collected to fill data gaps and provide information on protected species within the Call Area and that study plans should be coordinated with the FWS. This recommendation is consistent with the BOEM “Guidelines for Providing Avian Survey Information for Renewable Development on the Atlantic Outer Continental Shelf,” available at: http://www.boem.gov/Regulatory-Development-Policy-and-Guidelines. NOAA's National Marine Fisheries Service (NMFS) recommended that BOEM refer to maps of certain environmental and ecological parameters generated by the NMFS Northeast Fisheries Science Center, as well as data from the New York Department of State's Offshore Atlantic Ocean Study and the Mid-Atlantic Regional Council on the Ocean's data portal during the leasing area identification process to identify areas that serve critical ecosystem functions. Additional information on protected species will be gathered by BOEM during the NOI-EA comment period. Any interested parties are encouraged to provide comments in response to this notice and the associated NOI-EA.

Call for Nominations: Required Information for Responses

A nomination for a commercial wind energy lease in the area identified in this notice must include the following:

(1) The BOEM Protraction name, number, and specific whole or partial OCS blocks within the Call Area that are of interest for commercial wind leasing, including any required buffer area. This information should be submitted as a spatial file compatible with ArcGIS 10.1 in a geographic coordinate system (NAD 83) in addition to a hard copy submittal. If the proposed project area includes one or more partial blocks, please describe those partial blocks in terms of a sixteenth (i.e., sub-block) of an OCS block. BOEM will not consider any areas outside of the Call Area in this process;

(2) A description of your objectives and the facilities that you would use to achieve those objectives, including your intended project size and turbine array configuration (i.e., conceptual turbine spacing, number of turbines, turbine nameplate capacity);

(3) A preliminary schedule of proposed activities, including those leading to commercial operations;

(4) Available and pertinent data and information concerning renewable energy resources and environmental conditions in the area that you wish to lease, including energy and resource data and information used to evaluate the Call Area. Where applicable, spatial information should be submitted in a format compatible with ArcGIS 10.1 in a geographic coordinate system (NAD 83);

(5) Documentation demonstrating that you are legally qualified to hold a lease as set forth in 30 CFR 585.106 and 107. Examples of the documentation appropriate for demonstrating your legal qualifications and related guidance can be found in Chapter 2 and Appendix B of the BOEM Renewable Energy Framework Guide Book available at: http://www.boem.gov/Renewable-Energy-Program/Regulatory-Information/Index.aspx#Notices_to_Lessees,_Operators_and_Applicants. Legal qualification documents will be placed in an official file that may be made available for public review; and

(6) Documentation demonstrating that you are technically and financially capable of constructing, operating, maintaining and decommissioning the facilities described in (2) above. Guidance regarding the required documentation to demonstrate your technical and financial qualifications can be found at: http://www.boem.gov/Renewable-Energy-Program/Regulatory-Information/Index.aspx#Notices_to_Lessees,_Operators_and_Applicants.

Documentation you submit to demonstrate your legal, technical, and financial qualifications must be provided to BOEM in both paper and electronic formats. BOEM considers an Adobe PDF file stored on a CD or flash drive to be an acceptable format for submitting an electronic copy.

It is critical that you submit a complete nomination so that BOEM may evaluate your submission in a timely manner. If BOEM reviews your nomination and determines that it is incomplete, BOEM will notify you of this determination in writing. The notice will describe the information that BOEM determined to be missing from your nomination, and which you must submit in order for BOEM to deem your submission complete. You will be given 15 business days from the date of the notice to submit the information that BOEM found to be missing from your original submission. If you do not meet this deadline, or if BOEM determines this second submittal is insufficient and has failed to complete your nomination, then BOEM retains the right to deem your nomination invalid. In that case, BOEM would not process your nomination.

If you have already submitted this information in response to the RFI or as part of an unsolicited application, there is no need to re-submit these materials in response to this Call. If you wish to include additional information or modify any information already submitted in response to the RFI, including the area described in your submission, you may do so in response to this Call.

Applicants who submit a nomination in response to this Call, or who already submitted a nomination in response to the RFI, are invited (but not required) to respond to this Call with a description of the compatibility of their proposed project with the proposed Port Ambrose LNG Project and with commercial fishing activity occurring, or expected to occur, within and/or near the Call Area. Please state whether you would consider such activities to be compatible with the commercial wind activities you ultimately plan to undertake on the lease. If you believe that specific project design measures would promote greater compatibility, please specify which measures (e.g., notices to mariners, spacing between individual turbines, array configurations, cable burial depths, routing measures, inspection protocols, cable configurations or consolidations).

Call for Information: Requested Information From Interested or Affected Parties

BOEM is requesting from the public and other interested or affected parties specific and detailed data, or other information regarding the following:

(1) Geological and geophysical conditions (including bottom and shallow hazards) in the area described in this notice;

(2) Known archaeological and/or cultural resource sites on the seabed in the area described in this notice;

(3) Historic properties potentially affected by the construction of meteorological towers, the installation of meteorological buoys, or commercial wind development in the area identified in this Call;

(4) Other uses of the area, including navigation (in particular, commercial and recreational vessel use), recreation, and fisheries (commercial and recreational);

(5) Other relevant socioeconomic, biological, and environmental information;

(6) Any potential conflicts or compatibilities between the proposed commercial wind activities and existing fishing practices. If you believe that specific wind project design measures would promote greater compatibility between these two uses, please specify which measures (e.g., notices to mariners, spacing between individual turbines, array configurations, cable burial depths, routing measures, inspection protocols, cable configurations or consolidations);

(7) Any potential conflicts or compatibilities between the proposed Port Ambrose LNG Project and proposed commercial wind activities. If you believe that specific wind project design measures would promote greater compatibility between these two uses, please specify which measures (e.g., notices to mariners, spacing between individual turbines, array configurations, cable burial depths, routing measures, inspection protocols, cable configurations or consolidations); and

(8) Any other relevant information BOEM should consider during its planning and decision-making process for the purpose of issuing a lease in the Call Area.

Protection of Privileged or Confidential Information

Freedom of Information Act: BOEM will protect privileged or confidential information submitted as required by the Freedom of Information Act (FOIA). Exemption 4 of FOIA applies to trade secrets and commercial or financial information that you submit that is privileged or confidential. If you wish to protect the confidentiality of such information, clearly mark it and request that BOEM treat it as confidential. BOEM will not disclose such information, subject to the requirements of FOIA. Please label privileged or confidential information “Contains Confidential Information” and consider submitting such information as a separate attachment.

However, BOEM will not treat as confidential any aggregate summaries of such information or comments not containing such information. Additionally, BOEM will not treat as confidential (1) the legal title of the nominating entity (for example, the name of your company), or (2) the list of whole or partial blocks that you are nominating. Finally, information that is not labeled as privileged or confidential would be regarded by BOEM as suitable for public release.

Section 304 of the National Historic Preservation Act (NHPA) (16 U.S.C. 470w-3(a)): BOEM is required, after consultation with the Secretary of the Interior, to withhold the location, character, or ownership of historic resources if it determines that disclosure may, among other things, risk harm to the historic resources or impede the use of a traditional religious site by practitioners. Tribal entities should designate information that falls under Section 304 of NHPA as confidential.

Dated: May 19, 2014.
Walter D. Cruickshank,
Acting Director, Bureau of Ocean Energy Management.

[FR Doc. 2014-12065 Filed 5-27-14; 8:45 am]

BILLING CODE 4310-MR-P